DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with September anniversary dates. In accordance with Commerce's regulations, we are initiating those administrative reviews.

DATES: Applicable October 30, 2020.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with September anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a Separate Rate Application or Certification and subsequently are selected as mandatory respondents, these exporters and producers will no longer be eligible for separate rate status unless they respond to all parts of the questionnaire as mandatory respondents.

Initiation of Reviews

In accordance with 19 CFR 351.221(c)(1)(i), we are initiating administrative reviews of the following AD and CVD orders and findings. We intend to issue the final results of these reviews not later than September 30, 2021.

| Period to be reviewed
AD Proceedings
BRAZIL: Certain Cold-Rolled Steel Flat Products, A-351-843 | 9/1/19-8/31/20
Aperam Inox America do Sul S.A.
ArcelorMittal Brasil S.A.
Armco do Brasil S.A.
Arvedi Metalfer do Brasil
Companhia Siderurgica Nacional
NVent do Brasil Eletrometalurgica
Signode Brasileira Ltda.
Usinas Siderurgicas de Minas Gerais (Usiminas)
Villares Metals S.A.
Waelzholz Brasmetal Laminacao Ltda.
BRAZIL: Emulsion Styrene-Butadiene Rubber, A-351-849 | 9/1/19-8/31/20
Arlanxeo Brasil S.A.
INDIA: Certain Lined Paper Products, A-533-843 | 9/1/19-8/31/20
Cellpage Ventures Private Limited
Dinakar Process Private Limited
Goldenpalm Manufacturers PVT Limited
ITC Limited—Education and Stationery Products Business
JC Stationery (P) Ltd
Kokuyo Riddhi Paper Products Private Limited
Lodha Offset Limited
Lotus Global Private Limited
M/s.Bhaskar Paper Products
Magic International Pvt. Ltd.
Marisa International
Navneet Education Ltd.
Pioneer Stationery Private Limited (aka Pioneer Stationery Pvt. Ltd.)
PP Bafna Ventures Private Limited
SAB International
SGM Paper Products
Super Impex of India
INDIA: Oil Country Tubular Goods, A-533-857 | 9/1/19-8/31/20
Jindal SAW Limited
GVN Fuels Limited ⁵
Maharashtra Seamless Limited
Jindal Pipe Limited
MEXICO: Emulsion Styrene-Butadiene Rubber, A-201-848 | 9/1/19-8/31/20
Industrias Negromex, S.A. de C.V.—Planta Altamira ⁶
MEXICO: Heavy Walled Rectangular Welded Carbon Steel Pipes and Tubes, A-201-847
Maquilacero S.A. de C.V.880
Arco Metal S.A. de C.V.
Forza Steel S.A. de C.V.
Industrias Monterrey, S.A. de C.V.
Perfiles y Herrajes LM S.A. de C.V.
Productos Laminados de Monterrey S.A. de C.V.
PYTCO S.A. de C.V.
Regiomontana de Perfiles y Tubos S.A. de C.V.
Ternium S.A. de C.V.
Tuberia Nacional, S.A. de C.V.
Tuberias Procarsa S.A. de C.V.
REPUBLIC OF KOREA: Certain Cold-Rolled Steel Flat Products, A-580-881 | 9/1/19-8/31/20
AJU Steel Co., Ltd.
Ameri-Source Korea
Dai Yang Metal Co., Ltd.
DCM Corporation
DK GNS Co., Ltd.
Dongbu Incheon Steel Co., Ltd
Dongbu Steel Co., Ltd.
Dongkuk Industries Co., Ltd.
Dongkuk Steel Mill Co., Ltd.
GS Global Corporation
Hanawell Co., Ltd.
Hankum Co., Ltd.
Hwashin Co. Ltd.
Hyosung TNC Corporation
Hyundai Corporation
Hyundai Steel Company
JMP Co., Ltd.
KG Dongbu Steel Co., Ltd.
Korinox Co., Ltd.
Mikwang Precision Manufacture Co., Ltd.
Okaya Korea Co., Ltd.
POSCO
POSCO Coated and Color Steel Co., Ltd.
POSCO Daewoo Corporation
POSCO International Corporation
Samhwan Steel Co., Ltd.
Samsung C & T Corporation
Samsung Electronics Co., Ltd.
Samsung STS Co., Ltd.
SeAH Changwon Integrated Special Steel Corporation
SeAH Coated Metal Corporation
SeAH Steel Corporation
Shin Steel Co., Ltd.
Shin Young Co., Ltd.
Signode Korea Inc.
SK Networks Co., Ltd.
Soon Hong Trading Co., Ltd.
Sungjin Co., Ltd.
Taesan Corporation
TCC Steel Corporation
TI Automotive Ltd.
Wolverine Korea Co., Ltd.
REPUBLIC OF KOREA: Heavy Walled Rectangular Welded Carbon Pipes and Tubes, A-580-880 | 9/1/19-8/31/20
Ahshin Pipe & Tube Company
Aju Besteel Co., Ltd.
B N International Co., Ltd.
Bookook Steel Co., Ltd.
Dong-A Steel Company
Dongbu Steel Co., Ltd.
G.S. ACE Industry Co., Ltd.
Ganungol Industries Co. Ltd.
HAEM Co., Ltd.
Hanjin Steel Pipe
HBL INC.
HiSteel Co., Ltd.
Husteel Co., Ltd.
Hyosung Corporation
Hyundai Steel Co.
Hyundai Steel Pipe Company
K Steel Co. Ltd.
Korea Hinge Tech
Kukje Steel Co., Ltd.
Main Steel Co.
Miju Steel Manufacturing Co., Ltd.
NEXTEEL Co., Ltd.
POSCO DAE WOO
Sam Kang Industrial Co., Ltd.
Samson Controls Ltd., Co.
SeAH Steel Corporation
Shin Steel Co., Ltd.
Tianjin Songda International Trade Co., Ltd.
Yujin Steel Industry Co. Ltd.
REPUBLIC OF KOREA: Oil Country Tubular Goods, A-580-870 | 9/1/19-8/31/20
AJU Besteel Co., Ltd.
DB Inc.
Dong-A Steel Co., Ltd.
FM Oilfield Services Solutions LLC
Hengyang Steel Tube Group International Trading Inc.
HiSteel Co., Ltd.
Husteel Co., Ltd.
Hyundai Corporation
Hyundai Heavy Industries Co., Ltd.
Hyundai Steel Company
ILJIN Steel Corporation
K Steel Corporation
KASCO
Kenwoo Metals Co., Ltd.
Kukje Steel Co., Ltd.
Kumkang Kind Co., Ltd.
Kumsoo Connecting Co., Ltd.
Master Steel Corporation
NEXTEEL Co., Ltd.
POSCO International Corporation
Pusan Coupling Corporation
Pusan Fitting Corporation
Sang Shin Industrial Co., Ltd. (a.k.a. SIC Tube Co., Ltd.)
SeAH Changwon Integrated Special Steel Co., Ltd.
SeAH Steel Corporation
Shin Steel Co., Ltd.
Sichuan Y&J Industries Co. Ltd.
Steel-A Co., Ltd.
Sungwon Steel Co., Ltd.
TGS Pipe Co., Ltd.
TJ Glovsteel Co., Ltd.
TPC Co., Ltd.
T-Tube Co., Ltd.
SOCIALIST REPUBLIC OF VIETNAM: Oil Country Tubular Goods, A-552-817
Pusan Pipe America
SeAH Steel VINA Corporation
TAIWAN: Forged Steel Fittings, A-583-863 | 9/1/19-8/31/20
Both-Well Steel Fittings, Co., Ltd.
TAIWAN: Narrow Woven Ribbons With Woven Selvedge, A-583-844 | 9/1/19-8/31/20
Maple Ribbon Co., Ltd.
THE PEOPLE'S REPUBLIC OF CHINA: Certain Steel Wheels 12 to 16.5 Inches in Diameter, A-570-090 | 4/22/19-8/31/20
Hangzhou Antego Industry Co. Ltd
Shanghai Yata Industry Co., Ltd.
Xiamen Topu Imports & Export Co., Ltd.
Xingmin Intelligent Transportation Systems (Group) Co., Ltd
Zhejiang Jingu Company Limited
THE PEOPLE'S REPUBLIC OF CHINA: Steel Racks, A-570-088 | 3/4/19-8/31/20
Ateel Display Industries (Xiamen) Co., Ltd
Changzhou Tianyue Storage Equipment Co., Ltd
CTC Universal (Zhangzhou) Industrial Co., Ltd
David Metal Craft Manufactory Ltd
Fujian Ever Glory Fixtures Co., Ltd
Fujian First Industry and Trade Co., Ltd
Guangdong Wireking Housewares and Hardware Co., Ltd
Hebei Minmetals Co., Ltd
Huanghua Hualing Garden Products Co., Ltd
Huanghua Hualing Hardware Products Co., Ltd
Huanghua Xingyu Hardware Products Co., Ltd
Huanghua Xinxing Furniture Co., Ltd
Huangua Haixin Hardware Products Co., Ltd
Huangua Qingxin Hardware Products Co., Ltd
i-Lift Equipment Ltd
Jiangsu Baigeng Logistics Equipments Co., Ltd
Jiangsu Kingmore Storage Equipment Manufacturing Co., Ltd
Jiangsu Nova Intelligent Logistics Equipment Co., Ltd
Johnson (Suzhou) Metal Products Co., Ltd
Master Trust (Xiamen) Import and Export Co., Ltd
Nanjing Dongsheng Shelf Manufacturing Co., Ltd
Nanjing Ironstone Storage Equipment Co., Ltd
Nanjing Kingmore Logistics Equipment Manufacturing Co., Ltd
Ningbo Beilun Songyi Warehouse Equipment Manufacturing Co., Ltd
Ningbo Xinguang Rack Co., Ltd
Qingdao Rockstone Logistics Appliance Co., Ltd
Redman Corporation
Redman Import & Export Limited
Suzhou (China) Sunshine Hardware & Equipment Imp. & Exp. Co., Ltd
Tianjin Master Logistics Equipment Co., Ltd
Waken Display System Co., Ltd
Xiamen Baihuide Manufacturing Co., Ltd
Xiamen Ever Glory Fixtures Co., Ltd
Xiamen Golden Trust Industry & Trade Co., Ltd
Xiamen Huiyi Beauty Furniture Co., Ltd
Xiamen Kingfull Imp and Exp Co., Ltd. (d.b.a) Xiamen Kingfull Displays Co., Ltd
Xiamen LianHong Industry and Trade Co., Ltd
Xiamen Luckyroc Industry Co., Ltd
Xiamen Luckyroc Storage Equipment Manufacture Co., Ltd
Xiamen Meitoushan Metal Products Co., Ltd
Xiamen Power Metal Display Co., Ltd
Xiamen XinHuiYuan Industrial & Trade Co., Ltd
Xiamen Yiree Display Fixtures Co., Ltd
Yuanda Storage Equipment Ltd
Zhangjiagang Better Display Co., Ltd
Zhangzhou Hongcheng Hardware & Plastic Industry Co., Ltd
TURKEY: Oil Country Tubular Goods, A-489-816 | 9/1/19-8/31/20
APL Apollo Tubes Ltd.
BAUER Casings Makina San. ve Tic. Ltd.
Binayak Hi Tech Engineering Ltd.
Göktaş Yassi Hadde Mamülleri San. ve Tic. A.Ş.
ISMT Limited
Noksel Çelik Boru Sanayi. A.Ş.
TPAO (Türkiye Petrolleri Anonim Ortaklığı)
UNITED KINGDOM: Certain Cold-Rolled Steel Flat Products, A-412-824 | 9/1/19-8/31/20
Liberty Performance Steels, Ltd.
CVD Proceedings
BRAZIL: Cold-Rolled Steel Flat Products, C-351-844 | 1/1/19-12/31/19
Aperam Inox America do Sul S.A.
ArcelorMittal Brasil S.A.
Armco do Brasil S.A.
Arvedi Metalfer do Brasil
Companhia Siderurgica Nacional
NVent do Brasil Eletrometalurgica
Signode Brasileira Ltda.
Usinas Siderurgicas de Minas Gerais (Usiminas)
Villares Metals S.A.
Waelzholz Brasmetal Laminacao Ltda.
INDIA: Lined Paper Products, C-533-844 | 1/1/19-12/31/19
Dinakar Process Private Limited
ITC Limited—Education and Stationery Products Business
JC Stationery (P) Ltd
M/s.Bhaskar Paper Products
PP Bafna Ventures Private Limited
INDIA: Oil Country Tubular Goods, C-533-858 | 1/1/19-12/31/19
Alisped India Pvt., Ltd.
Anand Tubes Pvt., Ltd.
APL Apollo Tubes Ltd.
Apollo Metalex Pvt., Ltd.
AV Engineering Inc.
Bhushan Steel Limited
Disha Auto Components Pvt., Ltd.
Dover India Pvt., Ltd.
Energy Oilfield Tools Pvt., Ltd.
Freight Systems (India) Pvt., Ltd.
Gandhi Special Tubes Limited
Garg Tube Export LLP
Global Seamless Tubes And Pipes Pvt., Ltd.
Global Steelage
Global Tube & Steel Solutions Pvt., Ltd.
Goodluck India Limited
GVN Fuels Limited
Heavy Metal & Tubes India Pvt., Ltd.
Hyundai Steel India Pvt., Ltd.
Hyundai Steel Pipe India Pvt., Ltd.
ISMT Europe AB
ISMT Limited
Jindal (India) Limited
Jindal Pipes Limited
Jindal Saw Ltd.
JSW Steel Pvt., Ltd.
Khanna Industrial Pipes Pvt., Ltd.
Kirtanlal Steel Pvt., Ltd.
Lal Baba Seamless Tubes Pvt., Ltd.
Maharashtra Seamless Limited
Mehta Tubes Limited
Metamorphosis Engitech India Pvt., Ltd.
NF Forgings Pvt., Ltd.
Penguin Petroleum Services Pvt., Ltd.
Pennar Industries Limited
PT. CT Advance Technology
Rakshita Overseas
Shanker Steels
Superior Steel Overseas
Tata Steel BSL Limited
Tube Investments of India Ltd.
Vulcan Industrial Engg Co., Pvt., Ltd.
Welspun Corp., Ltd.
Zenith Birla Steels Pvt., Ltd.
Zenith Dyeintermediates Ltd.
REPUBLIC OF KOREA: Certain Cold-Rolled Steel Flat Products, C-580-882 | 1/1/19-12/31/19
AJU Steel Co., Ltd.
Amerisource Korea
Atlas Shipping Cp. Ltd.
BC Trade
Busung Steel Co., Ltd.
Cenit Co., Ltd.
Daewoo Logistics Corp.
Dai Yang Metal Co., Ltd.
DK GNS Co., Ltd
Dongbu Incheon Steel Co., Ltd.
Dongbu Steel Co., Ltd.
KG Dongbu Steel Co., Ltd. (formerly Dongbu Steel Co., Ltd.)
Dongbu USA
Dong Jin Machinery
Dongkuk Industries Co., Ltd.
Dongkuk Steel Mill Co., Ltd.
Eunsan Shipping and Air Cargo Co., Ltd.
Euro Line Global Co., Ltd.
GS Global Corp.
Hanawell Co., Ltd.
Hankum Co., Ltd.
Hyosung TNC Corp.
Hyuk San Profile Co., Ltd.
Hyundai Group
Hyundai Steel Company
Iljin NTS Co., Ltd.
Iljin Steel Corp.
Jeen Pung Industrial Co., Ltd.
JT Solution
Kolon Global Corporation
Nauri Logistics Co., Ltd.
Okaya (Korea) Co., Ltd.
PL Special Steel Co., Ltd.
POSCO
POSCO C&C Co., Ltd.
POSCO Daewoo Corp.
POSCO International Corp.
Samsung C&T Corp.
Samsung STS Co., Ltd.
SeAH Steel Corp.
SM Automotive Ltd.
SK Networks Co., Ltd.
Taihan Electric Wire Co., Ltd.
TGS Pipe Co., Ltd.
TI Automotive Ltd.
Xeno Energy
Young Steel Co., Ltd.
THE PEOPLE'S REPUBLIC OF CHINA: Certain Steel Wheels 12 to 16.5 Inches in Diameter, C-570-091 | 2/25/19-12/31/19
Hangzhou Antego Industry Co. Ltd.
Shanghai Yata Industry Co., Ltd.
Xiamen Topu Imports & Export Co., Ltd.
Xingmin Intelligent Transportation Systems (Group) Co., Ltd.
Zhejiang Jingu Company Limited
THE PEOPLE'S REPUBLIC OF CHINA: Steel Racks, C-570-089 | 12/3/18-12/31/19
Nanjing Dongsheng Shelf Manufacturing Co., Ltd
TURKEY: Heavy Walled Rectangular Welded Carbon Steel Pipes and Tube, C-489-825 | 1/1/19-12/31/19
Agir Haddecilik A.S.
Cag Celik Demir ve Celik Endustri A.S.
Cinar Boru Profil San Ve Tic. A.S.
Mescier Dis Ticaret Ltd. Sti.
MTS Lojistik ve Tasimacilik Hizmetleri TIC A.S. Istanbul
Noksel Celik Boru Sanayi A
Ozdemir Boru Profil San. ve Tic. Ltd. Sti.
SEBA Dis Ticaret A.S.
Tosyali Toyo Celik A.S.
TURKEY: Oil Country Tubular Goods, C-489-817 | 1/1/19-12/31/19
APL Apollo Tubes Ltd.
Bauer Casings Makina San. ve Tic. Ltd.
Binayak Hi Tech Engineering Ltd.
Borusan Mannesmann Boru Sanayi ve Ticaret A.Ş.
Borusan Mannesmann Boru Yatirim Holding
Borusan Istikbal Ticaret
Göktaş Yassi Hadde Mamülleri San. ve Tic. A.Ş.
ISMT Limited
Noksel Çelik Boru Sanayi. A.Ş.
TPAO (Türkiye Petrolleri Anonim Ortaklıgı)
Suspension Agreements
MEXICO: Fresh Tomatoes, A-201-820 | 9/1/19-8/31/20

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

⁵ Commerce collectively treats GVN Fuels Limited, Maharashtra Seamless Limited, and Jindal Pipe Limited as the “GVN Single Entity,” and merchandise that is both produced and exported by the companies within the GVN Single Entity are excluded from the antidumping duty order. See Certain Oil Country Tubular Goods from India: Notice of Correction to Amended Final Determination and Amendment of Antidumping Duty Order, 82 FR 35182 (July 28, 2017) (OCTG from India AD Order). However, this exclusion does not apply to merchandise produced by a company within the GVN Single Entity that is exported by any other company outside of the GVN Single Entity, or to merchandise that is produced by any other company and is exported by a company within the GVN Single Entity. Resellers of merchandise that is produced by companies within the GVN Single Entity are also not entitled to this exclusion. See OCTG from India AD Order.

⁶ We also received review requests for “Industrias Negromex S.A. de C.V.,” “Negromex S.A. de C.V.” and “Industrias Negromex Planta Altamira.” We confirmed that these company name variations all reference the single exporter identified above. Additionally, the review requests and supporting documentation indicated that two companies listed in the requests were U.S. importers: Dynasol LLC and INSA, LLC.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁷ available at https://enforcement.trade.gov/frn/2013/1304frn/2013-08227.txt, prior to submitting factual information in this segment. Note that Commerce has temporarily modified certain of its requirements for serving documents containing business proprietary information, until further notice.⁸

⁷ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁸ See Temporary Rule Modifying AD/CVD Service Requirements Due to COVID-19, 85 FR 41363 (July 10, 2020).

Any party submitting factual information in an AD or CVD proceeding must certify to the accuracy and completeness of that information using the formats provided at the end of the Final Rule.⁹ Commerce intends to reject factual submissions in any proceeding segments if the submitting party does not comply with applicable certification requirements.

⁹ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁰ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁰ See 19 CFR 351.302.

These initiations and this notice are in accordance with section 751(a) of the Act (19 U.S.C. 1675(a)) and 19 CFR 351.221(c)(1)(i).

Dated: October 26, 2020.
James Maeder,
Deputy Assistant Secretary for Antidumping and Countervailing Duty Operations.

[FR Doc. 2020-24051 Filed 10-29-20; 8:45 am]

BILLING CODE 3510-DS-P